DEPARTMENT OF THE INTERIOR

Fish and Wildlife Service

Draft Revised Recovery Plan for the Paiute Cutthroat Trout (Oncorhynchus clarki seleniris)

AGENCY: Fish and Wildlife Service, Interior.

ACTION: Notice of document availability for review and comment.

SUMMARY: The U.S. Fish and Wildlife Service (“we”) announces the availability of the Draft Revised Recovery Plan for the Paiute Cutthroat Trout (Oncorhynchus clarki seleniris) for public review. This draft plan includes specific recovery criteria and measures to be taken in order to delist the Paiute cutthroat trout.

DATES: Comments on the draft revised recovery plan must be received on or before March 26, 2004, to receive our consideration.

ADDRESSES: Copies of the draft revised recovery plan are available for inspection, by appointment, during normal business hours at the following location: U.S. Fish and Wildlife Service, Nevada Fish and Wildlife Office, 1340 Financial Boulevard, Suite 234, Reno, Nevada (telephone (775) 861-6300). Requests for copies of the draft revised recovery plan and written comments and materials regarding this plan should be addressed to Robert D. Williams, Field Supervisor, at the above Reno address. An electronic copy of the draft revised recovery plan is also available at: http://endangered.fws.gov/recovery/index.html#plans.

FOR FURTHER INFORMATION CONTACT: Chad Mellison, Fish and Wildlife Biologist, at the above Reno address.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Comments may result in changes to the plan. Comments regarding recovery plan implementation will be forwarded to appropriate Federal or other entities so that they can take these comments into account during the course of implementing recovery actions. Individual responses to comments will not be provided.

The Paiute cutthroat trout is native to Silver King Creek in the East Fork Carson River drainage of east-central California, Humboldt-Toiyabe National Forest, Alpine County, California. Hybridization with non-native salmonids is the primary threat to the species.

The original recovery plan for the Paiute cutthroat trout was published in 1985. The objectives of the 1985 recovery plan were to reestablish a pure population of Paiute cutthroat trout in Silver King Creek above Llewellyn Falls, and secure and maintain the integrity of the occupied habitats in Silver King Creek, North Fork Cottonwood Creek, and Stairway Creek, all which occur outside of the presumed historic habitat. This revised plan incorporates recent research data and addresses the species' current status, threats, distribution, and recovery needs. It also addresses the effects of recovery actions on the mountain yellow-legged frog (Rana muscosa) and the Yosemite toad (Bufo canorus), which occur within the Silver King Creek drainage as well as in the vicinity of the out-of-basin population sites. This plan identifies actions to maintain ecosystem integrity as well as recover the listed species.

The draft revised recovery plan includes conservation measures designed to ensure that self-sustaining populations of Paiute cutthroat trout will once again occupy its historic range. Specific recovery actions focus on removing non-native salmonids and establishing a viable population in its historic range. The plan also identifies the need to protect pure populations which exist outside of the historic range. The ultimate goal of this plan is to delist the Paiute cutthroat trout by implementing a variety of measures to attain the following criteria: (1) All non-native salmonids are removed in Silver King Creek and its tributaries downstream of Llewellyn Falls to fish barriers in Silver King Canyon; (2) a viable population of Paiute cutthroat trout occupies all historic habitat in Silver King Creek and its tributaries downstream of Llewellyn Falls to fish barriers in Silver King Canyon; (3) Paiute cutthroat trout habitat is maintained in all occupied streams; (4) the refuge populations in Corral and Coyote Creeks, Silver King Creek and tributaries above Llewellyn Falls, as well as out-of-basin populations are maintained as refugia and are secured from the introduction of other salmonid species; and (5) develop a long-term conservation plan and conservation agreement which will be the guiding management documents once Paiute cutthroat trout are delisted.

Public Comments Solicited

We solicit written comments on the draft revised recovery plan described. All comments received by the date specified above will be considered in developing a final revised recovery plan.

Authority

The authority for this action is section 4(f) of the Endangered Species Act, 16 U.S.C. 1533(f).

Dated: November 24, 2003.
Steve Thompson,
Manager, California/Nevada Operations Office, Region 1, U.S. Fish and Wildlife Service.

[FR Doc. 04-1559 Filed 1-23-04; 8:45 am]

BILLING CODE 4310-55-P